DEPARTMENT OF ENERGY

Federal Energy Regulatory Commission

[Project No. 15309-000]

Nature and People First Arizona PHS, LLC; Notice of Preliminary Permit Application Accepted for Filing and Soliciting Comments, Motions To Intervene, and Competing Applications

On May 2, 2023, Nature and People First Arizona PHS, LLC, filed an application for a preliminary permit, pursuant to section 4(f) of the Federal Power Act (FPA), proposing to study the feasibility of the Chuska Mountain North Pumped Storage Project to be located in Apache County, Arizona, near the San Juan River, approximately 1.6 miles north of the town of Lukachukai on Navajo Nation Lands. The sole purpose of a preliminary permit is to grant the permit holder priority to file a license application during the permit term. A preliminary permit does not authorize the permit holder to perform any land-disturbing activities or otherwise enter upon lands or waters owned by others without the owners' express permission.

The pumped storage hydropower project will consist of: (1) a new upper reservoir with a surface area of 4,800 acres and a storage volume of 400,000 acre-feet at a maximum water-surface elevation of 8,810 feet mean sea level; (2) a new lower reservoir with a surface area of 5,400 acres and a storage volume of 400,000 acre-feet at a maximum water-surface elevation of 5,910 MSL; (3) a 60-foot-wide, 1,200-foot-long and 100-foot-high subterranean powerhouse with twelve pump/turbines rated at 250 megawatts; (4) a 40-foot wide and 33,000-foot-long conduit to the powerhouse; (5) 12-foot-wide, 1,000-foot-long powerhouse lower conduit; and (6) approximately 50 miles of 550-kilovolt transmission line for connection to existing lines. The estimated annual energy production of the project would be approximately 6,570,000 megawatt-hours.

Applicant Contact: Mr. Denis Payre, Nature and People First Arizona PHS, LLC, 405 Waltham St., Suite 145, Lexington, MA 02421; email: denis.payre@natureandpeoplefirst.com; phone: (781) 491-5364.

FERC Contact: Shannon Archuleta; email; shannon.archuleta@ferc.gov; phone (503) 552-2739.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters without prior registration using the eComment system at https://ferconline.ferc.gov/QuickComment.aspx. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15309-000.

More information about this project, including a copy of the application, can be viewed on the Commission's website (http://www.ferc.gov) using the “eLibrary” link. Enter the docket number (P-15309) in the docket number field to access the document. For assistance, do not hesitate to get in touch with FERC Online Support.

Dated: July 13, 2023.
Debbie-Anne A. Reese,
Deputy Secretary.

[FR Doc. 2023-15313 Filed 7-18-23; 8:45 am]

BILLING CODE 6717-01-P